DEPARTMENT OF ENERGY

Federal Energy Regulatory Commission

Notice Soliciting Additional Study Requests and Establishing Procedures for Relicensing

July 11, 2001.

Take notice that additional study requests are being solicited for the following hydroelectric applications.

a. Type of Application: Amendment of License Application.

b. Project No.: 2030-036.¹

¹ On December 16 and 17, 1999, PGE and the CTWS, respectively, filed competing applications for license for the Pelton Round Butte Project. On June 29, 2001, PGE and the CTWS filed a joint, final amendment to their applications for license to become co-applicants for license, thereby eliminating any competition for a new license for the project. Based on footnote No. 19 of the Commission's Order Approving Settlement and Amending Application, issued November 21, 2000, we are merging both applications into one docket, 2030-036. Docket 11832-000, established for the CTWS license application, and docket 2030-031, established for PGE's application have been merged into docket P-2030-036.

c. Date Filed: June 29, 2001.

d. Applicants: Portland General Electric Company (PGE) and the Confederated Tribes of the Warm Springs Reservation of Oregon (CTWS).

e. Name of Project: Pelton Round Butte Hydroelectric Project.

f. Location: The project is located on the Deschutes River in Jefferson, Marion, and Wasco Counties, Oregon. The project occupies lands of the Deschutes National Forest; Mt Hood National Forest; Willamette National Forest; Crooked River National Grassland; Bureau of Land Management; and tribal lands of the Warm Springs Reservation of Oregon.

g. Filed Pursuant to: Federal Power Act, 16 U.S.C. 791(a)-825(r).

h. Applicant Contacts: Ms. Julie Keil, Director, Hydro Licensing, Portland General Electric Company, 121 SW Salmon Street, Portland, OR 97204, (503) 464-8864; and Mr. James Manion, General Manager, Warm Springs Power Enterprises, P.O. Box 690, Warm Springs, OR 97761, (541) 553-1046.

i. FERC Contact: Any questions on this notice should be addressed to Nan Allen at (202) 219-2839. E-mail address: nan.allen@ferc.fed.us.

j. Deadline for filing additional study requests: August 28, 2001.²

² The Commission issued a tendering notice and solicitation for additional study requests for PGE's and the CTWS's license applications on December 28, 1999. On January 6, 2000, the Commission canceled the solicitation for additional study requests in anticipation of the joint final amendment filed on June 29, 2001. We now establish the deadline for additional study requests as 60 days from the date of filing of the joint amendment.

All documents (original and eight copies) should be filed with: David P. Boergers, Secretary, Federal Energy Regulatory Commission, 888 First Street, NE., Washington, DC 20426. Comments, additional study requests, protests and interventions may be filed electronically via the Internet in lieu of paper. See, 18 CFR 385.2001(a)(1)(iii) and the instructions on the Commission's web site under the “e-Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The applications for license and the joint, final amendment application are not ready for environmental analysis at this time.

l. The Round Butte development consists of: (1) The 440-foot-high, 1,382-foot-long compacted rock-filled Round Butte dam with a crest elevation of 1,955 feet above mean sea level (msl) with a spillway intake structure, a spillway tunnel and a modified flip bucket discharge; (2) Lake Billy Chinook with a gross storage capacity of 535,000 acre-feet and a normal maximum water surface area of 4,000 acres at normal maximum water elevation of 1,945 feet msl; (3) a powerhouse intake structure, with trashracks, on the left abutment about 700 feet upstream from the dam; (4) a 23-foot-diameter, 1,425-foot-long steel-lined power tunnel; (5) a reinforced concrete-encased steel bifurcation consisting of three 14-foot-diameter penstocks; (6) the Round Butte powerhouse containing three turbine/generator units with a total installed capacity of 300 megawatts (MW); (7) a tailrace channel; (8) a 100-mile-long, 230-kilovolt (kV) transmission line from the switchyard to PGE's Bethel substation; (9) a 10.5-mile-long, 12.5-kV transmission line from the switchyard to the Reregulating dam; and (10) other appurtenances.³

³ On June 18, 2001, PGE filed an application to amend the current project license to install a 70-kilowatt-turbine/generator unit on a pipeline that drains ground water from the lower grout tunnel on the west abutment of the Round Butte dam. The Commission has not yet acted on PGE's application.

The Pelton development consists of: (1) The 204-foot-high, 636-foot-long thin-arch variable-radius reinforced concrete Pelton dam with a crest elevation 1,585 feet msl; (2) a reinforced concrete spillway on the left bank with a crest elevation of 1,558 feet msl; (3) Lake Simtustus with a gross storage capacity of 31,000 acre-feet and a normal maximum surface area of 540 acres at normal maximum water surface elevation of 1,580 feet msl; (4) an intake structure at the dam; (5) three 16-foot-diameter penstocks, 107 feet long, 116 feet long, and 108 feet long, respectively; (6) a powerhouse with three turbine/generator units with a total installed capacity of 108 MW; (7) a tailrace channel; (8) a 7.9-mile-long, 230-kV transmission line from the powerhouse to the Round Butte switchyard; and (9) other appurtenances.

The Reregulating development consists of: (1) The 88-foot-high, 1,067-foot-long concrete gravity and impervious core rockfilled Reregulating dam with a spillway crest elevation of 1,402 feet msl; (2) a reservoir with a gross storage capacity of 3,500 acre feet and a normal maximum water surface area of 190 acres at normal maximum water surface elevation of 1,435 feet msl; (3) a powerhouse at the dam containing a 18.9-MW turbine/generator unit; (4) a tailrace channel; (5) a 3.2-mile-long, 69-kV transmission line from the development to the Warm Springs substation; and (6) other appurtenances.

m. A copy of PGE's and CTWS's applications for license and their joint, final amendment are available for inspection and reproduction at the Commission's Public Reference Room, located at 888 First Street, NE., Room 2-A, Washington, DC 20426, or by calling (202) 208-1371. This filing may also be viewed on the web at http://www.ferc.gov using the “RIMS” link, select “Docket#” and follow the instructions (call 202-208-2222 for assistance). A copy is also available for inspection and reproduction at the addresses in item h above.

n. With this notice, we are initiating consultation with the OREGON STATE HISTORIC PRESERVATION OFFICER (SHPO), as required by § 106, National Historic Preservation Act, and the regulations of the Advisory Council on Historic Preservation, 36 CFR 800.4.

o. Procedural schedule: The application will be processed according to the following milestones, some of which may be combined to expedite processing:

Notice of application being accepted for filing

Notice of NEPA Scoping

Notice of application being ready for environmental analysis

Notice of the availability of the draft NEPA document

Notice of the availability of the final NEPA document

Order issuing the Commission's decision on the application

David P. Boergers,
Secretary.

[FR Doc. 01-17821 Filed 7-16-01; 8:45 am]

BILLING CODE 6717-01-P